DEPARTMENT OF HEALTH AND HUMAN SERVICES

Office of the National Coordinator for Health Information Technology; American Health Information Community Chronic Care Workgroup Meeting

ACTION: Announcement of meeting.

SUMMARY: This notice announces the 26th meeting of the American Health Information Community Chronic Care Workgroup in accordance with the Federal Advisory Committee Act (Pub. L. No. 92-463, 5 U.S.C., App.).

DATES: July 10, 2008, from 1 p.m. to 4 p.m., Eastern Time.

ADDRESSES: Mary C. Switzer Building (330 C Street, SW., Washington, DC 20201), Conference Room 1114. Please use the 3rd Street entrance and bring photo ID for entry to a Federal building.

FOR FURTHER INFORMATION CONTACT: http://www.hhs.gov/healthit/ahic/chroniccare/.

SUPPLEMENTARY INFORMATION: The workgroup will discuss progress made to date and future steps regarding secure messaging and remote care as it relates to the transition to the new AHIC.

The meeting will be available via Web cast. For additional information, go to: http://www.hhs.gov/healthit/ahic/chroniccare/cc_instruct.html.

Dated: June 10, 2008.
Judith Sparrow,
Director, American Health Information Community, Office of Programs and Coordination, Office of the National Coordinator for Health Information Technology.

[FR Doc. E8-13958 Filed 6-19-08; 8:45 am]

BILLING CODE 4150-45-P